DEPARTMENT OF COMMERCE

National Oceanic and Atmospheric Administration

50 CFR Part 648

[Docket No.: 191230-0124]

RIN 0648-BH68

Fisheries of the Northeastern United States; Expanding the Scallop Dredge Exemption Areas Under the Northeast Multispecies Fishery Management Plan

AGENCY: National Marine Fisheries Service (NMFS), National Oceanic and Atmospheric Administration (NOAA), Commerce.

ACTION: Final rule.

SUMMARY: NMFS approves and implements modifications to the regulations implementing the Northeast Multispecies Fishery Management Plan to allow vessels issued a limited access general category individual fishing quota sea scallop permit to fish for scallops with small dredges in an expanded area. In addition, NMFS also implements modifications to the open area days-at-sea trip reporting procedures for limited access scallop vessels. This action is intended to provide consistency, flexibility, and potential economic benefit to the scallop fleet.

DATES: Effective February 14, 2020.

ADDRESSES: NMFS developed an environmental assessment (EA) for this action that describes the action and other considered alternatives and provides a thorough analysis of the impacts of these measures. Copies of the Amendment, the EA, and the small entity compliance guide are available upon request from Michael Pentony, Regional Administrator (RA), NMFS, Greater Atlantic Regional Fisheries Office, 55 Great Republic Drive, Gloucester, MA 01930-2298, or available on the internet at: http://www.greateratlantic.fisheries.noaa.gov/sustainable/species/scallop/.

FOR FURTHER INFORMATION CONTACT: Shannah Jaburek, Fishery Management Specialist, 978-282-8456.

SUPPLEMENTARY INFORMATION:

Background

This final rule approves and implements the New England Fishery Management Council's recommendation from its meeting on June 20, 2017, that the RA use his authority to expand the Great South Channel (GSC) scallop dredge exemption area to encompass all of Georges Bank (GB). Additionally NMFS is expanding the Southern New England (SNE) scallop dredge exemption area in combination with the GSC scallop dredge exemption area creating a new expanded exemption area called Georges Bank/Southern New England (GB/SNE) scallop dredge exemption area. NMFS published a proposed rule for the expansion of the scallop dredge exemption areas on November 1, 2018 (83 FR 54903). The proposed rule included a 30-day public comment period that closed on December 3, 2018.

Regulations implementing the Northeast Multispecies Fishery Management Plan (FMP) include a bycatch control measure for the Gulf of Maine (GOM), GB, and SNE Regulated Mesh Areas. A vessel may not fish in these areas unless it is fishing under a multispecies or a scallop days-at-sea (DAS) allocation; is fishing with exempted gear; is fishing under the Handgear or Party/Charter permit restrictions; or is fishing in an exempted fishery (50 CFR 648.80(a)(3)(vi) and 50 CFR 648.80(b)(2)(vi)). The regulations found at 50 CFR 648.80(a)(8) give the RA the authority to establish a new exempted fishery, or modify an existing exempted fishery, after consultation with the Council, provided the bycatch of groundfish species is, or can be reduced to, less than five percent by weight of the total catch and the exempted fishery will not jeopardize the fishing mortality objectives of the NE Multispecies FMP.

The limited access general category (LAGC) individual fishing quota (IFQ) fleet currently operates in four different exemption areas: GOM Scallop Dredge Exemption Area; GSC Scallop Dredge Exemption Area; SNE Scallop Dredge Exemption Area; and the Mid-Atlantic Exemption Area (Figure 1). Some members of the scallop industry requested that NMFS expand the GSC and GOM Scallop Dredge Exemption Areas to encompass all of GB and the GOM. The Council is currently working on Amendment 21 to the Scallop FMP to develop comprehensive management measures for the GOM, and therefore, it did not recommend that we expand the GOM Scallop Dredge Exemption Area.

BILLING CODE 3510-22-P

BILLING CODE 3510-22-C

The current exemptions in the scallop dredge exemption areas allow LAGC IFQ vessels to fish within the designated scallop dredge exemption area using dredge gear that is less than 10.5 ft (3.2 m) wide. The exemptions allow these vessels to retain only scallops and up to 50 lb (23 kg) of monkfish tails or 166 lb (75 kg) of whole monkfish per trip. One purpose of this action is to expand the area where these exemptions apply. Because the Mid-Atlantic Exemption Area is not subject to the same exemption conditions under the NE Multispecies FMP as the scallop dredge exemption areas, no changes are needed for the Mid-Atlantic Exemption Area.

Based on consultations with the Council, the current scallop dredge exemption areas for the LAGC IFQ fleet are being expanded by eliminating the current GSC and SNE Scallop Dredge Exemption Areas designations and creating a new expanded exemption area called Georges Bank/Southern New England (GB/SNE) Scallop Dredge Exemption Area. The GB/SNE Scallop Dredge Exemption Area will encompass all fishing grounds south of 42°20′ N lat. and east of the Mid-Atlantic Exemption Area (Figure 2).

BILLING CODE 3510-22-P

BILLING CODE 3510-22-C

This new expanded exemption area will provide continuity for IFQ scallop fishing and achieve the following benefits:

• Include new areas that were originally part of the Nantucket Lightship Essential Fish Habitat Closure opened under the Omnibus Habitat Amendment 2 (83 FR 15240, April 9, 2018) and are not currently accessible to the LAGC fleet; and

• Include an area off the coasts of Rhode Island, Connecticut, and New York that is not covered by current exemption areas, but where activity in the IFQ fishery has occurred.

The primary area that will open to LAGC fishing as a result of this action is the GB Broad Stock Area, which is made up of statistical reporting areas 522, 525, 542, 561, 562, and 543 (a map of the statistical reporting areas is available from the Regional Administrator upon request). Because LAGC dredge fishing is not currently permitted in these areas, we analyzed potential effect on groundfish catch by LAGC dredge fishing in the expansion area by looking at limited access and LAGC observed hauls (nh) in the Southern New England/Mid-Atlantic (SNE/MA) Broad Stock Area and Statistical Area 521 from 2012 to 2016 (nh = 3,426). We determined that the information collected from these areas would be a valid way to estimate potential catch of groundfish in the newly expanded areas. In looking at this information, we excluded hauls that caught less than 40 lb (18.1 kg) of scallop meats because they are not representative samples. Using the observer program information, we developed a ratio of groundfish discarded (D) to total catch (K) for both the limited access and LAGC fleets according to the following equation:

Percent Multispecies = [D/K] × 100

For this analysis, we summed the weights of groundfish caught on observed trips (nt) in the SNE/MA Broad Stock Area and Statistical Area 521, and divided it into the total weight (nt = 374). Trips were aggregated across area, fishing year, and fleet. The ratios for both fleets were compared for differences using statistical analysis. We found that the limited access fleet had a bycatch rate of 0.52 percent of regulated species in the SNE/MA Broad Stock Area and the LAGC fleet had a bycatch rate of 0.53 percent of regulated species. There were no significant differences between bycatch rates of regulated species between the two fleets.

Limited access D/K ratios were then calculated from observed trips within the GB Broad Stock Area. We used additional statistical analysis to determine the range of the likely rate of groundfish bycatch by the LAGC fleet in the GB Broad Stock Area. We found that the limited access fleet had a bycatch rate of 1.07 percent of regulated species. Based on the combination of these two analyses, the expected range of regulated species bycatch for the LAGC fleet in the GB Broad Stock Area would be between 0.99 percent and 1.25 percent. Further, an examination of rates within fishing years and individual areas revealed that there were no years or areas where the D/K rate exceeded five percent.

Based on data analysis performed by NMFS, the LAGC IFQ fishery is expected to meet the five-percent-or-less bycatch criteria for granting an exemption throughout the entirety of the GB and SNE Regulated Mesh Areas. Further, because multispecies catch is controlled for the IFQ fleet by the sub-annual catch limits and there are accountability measures for yellowtail and windowpane flounder caught in the fishery, allowing the IFQ fleet to fish in the expanded area will not likely jeopardize fishing mortality limits for Northeast multispecies stocks.

In addition, this expanded exemption will help offset the effects on the closure to fishing implemented by the Omnibus Habitat Amendment 2. The GSC Habitat Management Area was created under the Omnibus Habitat Amendment 2 within the existing GSC Scallop Dredge Exemption Area. The GSC Habitat Management Area prohibits the use of all mobile fishing gear, including scallop dredge gear, year-round. Creating the new GB/SNE Scallop Dredge Exemption Area will provide additional fishing area, fishing opportunity, and greater flexibility and simplicity by being uniform to the scallop fishery as a whole for the IFQ fleet. From a conservation standpoint, by allowing the IFQ fleet to expand fishing operations to scallop areas with higher densities, there would be less area swept and time the gear is in the water providing benefits to both habitat and protected species.

This action also implements a modification to open area DAS trip reporting procedures by requiring that each limited access vessel submit a pre-landing notification form through its vessel monitoring system (VMS) unit prior to returning to port at the end of each DAS trip, including trips where no scallops were landed. At its June 13, 2018, meeting the Council requested that NMFS use its authority to require a VMS pre-landing notification on all limited access scallop trips to create reporting parity in the fishery with other limited access trips and LAGC trips where this notification is required. NOAA's Office of Law Enforcement may use this information to assist in monitoring vessel activity and to improve compliance with the regulations.

Comments and Responses

We received six comments on the proposed rule. One comment was from the Associated Fisheries of Maine, which is the organization that initially requested the exemption. The Associated Fisheries of Maine represents New England fishermen including IFQ scallop vessel owners. Another comment was submitted by the Cape Cod Fisherman's Alliance, which is an organization that includes several Cape Cod IFQ scallop vessel owners. We also received four comments from members of the general public.

Comment 1: Both the Associated Fisheries of Maine and the Cape Cod Fisherman's Alliance along with three members of the public, commented in favor of the rule. Those who commented in favor of the rule cited greater economic benefit to the fleet, more flexibility, better efficiency, and that an expanded area will help offset the negative effects of any closures implemented through Omnibus Habitat Amendment 2.

Response: We agree.

Comment 2: One member of the public commented in opposition of the rule stating that scallops are considered an endangered species and expanding the fishing area opens the fishery up to additional participants.

Response: Atlantic sea scallops are not currently listed as an endangered species nor have they ever been. The scallop fishery is not overfished and overfishing is not occurring. The scallop fishery is a thriving, healthy fishery that has benefitted significantly from rotational management and is one of the most profitable fisheries in the Northeast. In addition, the scallop fishery has been fully limited access with a maximum number of permits issued each year since 2010. This final rule does not change the limited access component of the fishery as a harvest control mechanism and therefore no new LAGC IFQ permits will be issued as a result of this action. The main purpose of this rule is to give the LAGC IFQ permit holders access to additional fishing grounds, not give them additional quota beyond what is allocated through the annual specifications process.

Changes From the Proposed Rule

The new pre-landing notification form requirement for the limited access fleet was originally part the NMFS Greater Atlantic Region Scallop Report Family of Forms (OMB Control No. 0648-0491) but has since been moved to fall under the more general Greater Atlantic Region Report Family of Forms (OMB Control No. 0648-0202) as of the current renew.

Classification

Pursuant to section 304(b)(1)(A) of the Magnuson-Stevens Act, the NMFS Assistant Administrator has determined that this final rule is consistent with the FMP, other provisions of the Magnuson-Stevens Act and other applicable laws.

OMB has determined that this rule is not significant pursuant to E.O. 12866.

This final rule is considered an Executive Order 13771 deregulatory action.

This final rule does not contain policies with federalism or “takings” implications, as those terms are defined in E.O. 13132 and E.O. 12630, respectively.

This action contains collection-of-information requirements subject the Paperwork Reduction Act (PRA). The requirements for this final approval are under the NMFS Greater Atlantic Region Family of Forms (OMB Control No. 0648-0202). The final rule implements a requirement that all 347 limited access scallop vessels will be required to submit a pre-landing notification form for each DAS trip through their VMS units. This information collection is intended to improve DAS trip monitoring, as well as create reporting consistency for all scallop trips.

The pre-landing notification will include the following information: Operator's permit number; amount of scallop meats to be landed; the estimated time of arrival; the landing port and state where the scallops will be offloaded; and the vessel trip report (VTR) serial number recorded from that trip's VTR.

The burden estimates for these new requirements apply to all limited access scallop vessels. In a given fishing year, NMFS estimates that for DAS reporting, each of the 313 full-time limited access scallop vessels will submit a pre-landing report 3 times (939 responses) and each of the 34 part-time limited access vessels will submit a pre-landing report up to 2 times (68 responses), for a total of 1,007 responses. Public reporting burden for submitting this pre-landing notification for is estimated to average five minutes per response with an associated cost of $1.25, including the time for reviewing instructions, searching existing data sources, gathering and maintaining the data needed, and completing and reviewing the collection of information. Therefore, 1,007 responses will impose total compliance costs of $1,259.

Pursuant to section 604 of the Regulatory Flexibility Act (RFA), The Chief Counsel for Regulation of the Department of Commerce certified to the Chief Counsel for Advocacy of the Small Business Administration that this rule will not have a significant economic impact on a substantial number of small entities. The factual basis for the certification was published in the proposed rule and is not repeated here. No comments were received regarding this certification. As a result, a regulatory flexibility analysis was not required and none was prepared.

List of Subjects 50 CFR Part 648

Fisheries, Fishing, Recordkeeping and reporting requirements.

Dated: December 30, 2019.
Alan D. Risenhoover,
Acting Deputy Assistant Administrator for Regulatory Programs, National Marine Fisheries Service.

For the reasons set out in the preamble, 50 CFR part 648 is amended as follows:

PART 648—FISHERIES OF THE NORTHEASTERN UNITED STATES

Subpart A—General Provisions

1. The authority citation for part 648 continues to read as follows:

Authority: 16 U.S.C. 1801 et seq.

2. In § 648.10, revise paragraph (f)(4)(iii) to read as follows:

§ 648.10 VMS and DAS requirements for vessel owners/operators.

* * * * *

(f) * * *

(4) * * *

(iii) Scallop Pre-Landing Notification Form for limited access vessels fishing on scallop trips. A limited access vessel on a declared sea scallop trip must report through VMS, using the Scallop Pre-Landing Notification Form, the amount of any scallops kept on each trip, including declared trips where no scallops were landed. The report must be submitted no less than 6 hours before arrival, or, if fishing ends less than 6 hours before arrival, immediately after fishing ends. If scallops will be landed, the report must include the vessel operator's permit number, the amount of scallop meats in pounds to be landed, the number of bushels of in-shell scallops to be landed, the estimated time of arrival, the landing port and state where the scallops will be offloaded, and the VTR serial number recorded from that trip's VTR (the same VTR serial number as reported to the dealer). If no scallops will be landed, a limited access vessel on a declared sea scallop trip must provide only the vessel's captain/operator's permit number, the VTR serial number recorded from that trip's VTR (the same VTR serial number as reported to the dealer), and confirmation that no scallops will be landed. A limited access scallop vessel may provide a corrected report. If the report is being submitted as a correction of a prior report, the information entered into the notification form will replace the data previously submitted in the prior report. Submitting a correction does not prevent NMFS from pursuing an enforcement action for any false reporting. A vessel may not offload its catch from a Sea Scallop Access Area trip at more than one location per trip.

* * * * *

3. In § 648.14, revise paragraph (k)(5)(i) to read as follows:

§ 648.14 Prohibitions.

* * * * *

(k) * * *

(5) * * *

(i) Violate any of the provisions of § 648.80, including paragraphs (a)(5), the Small-mesh Northern Shrimp Fishery Exemption Area; (a)(6), the Cultivator Shoal Whiting Fishery Exemption Area; (a)(9), Small-mesh Area 1/Small-mesh Area 2; (a)(10), the Nantucket Shoals Dogfish Fishery Exemption Area; (h)(3)(i), the GOM Scallop Dredge Exemption Area; (a)(12), the Nantucket Shoals Mussel and Sea Urchin Dredge Exemption Area; (a)(13), the GOM/GB Monkfish Gillnet Exemption Area; (a)(14), the GOM/GB Dogfish Gillnet Exemption Area; (a)(15), the Raised Footrope Trawl Exempted Whiting Fishery; (a)(16), the GOM Grate Raised Footrope Trawl Exempted Whiting Fishery; (h)(3)(ii), the Georges Bank/Southern New England Scallop Dredge Exemption Area; (a)(19), the Eastern and Western Cape Cod Spiny Dogfish Exemption Areas; (b)(3), exemptions (small mesh); (b)(5), the SNE Monkfish and Skate Trawl Exemption Area; (b)(6), the SNE Monkfish and Skate Gillnet Exemption Area; (b)(8), the SNE Mussel and Sea Urchin Dredge Exemption Area; (b)(9), the SNE Little Tunny Gillnet Exemption Area; (h)(3)(ii); or (b)(12), the SNE Skate Bait Trawl Exemption Area. Each violation of any provision in § 648.80 constitutes a separate violation.

* * * * *

Subpart D—Management Measures for the Atlantic Sea Scallop Fishery

4. In § 648.51, revise paragraph (b)(1) to read as follows:

§ 648.51 Gear and crew restrictions.

* * * * *

(b) * * *

(1) Maximum dredge width. The combined dredge width in use by or in possession on board such vessels shall not exceed 31 ft (9.4 m), measured at the widest point in the bail of the dredge, except as provided under paragraph (e) of this section, in § 648.59(g)(2), and the scallop dredge exemption areas specified in § 648.80(h). However, component parts may be on board the vessel such that they do not conform with the definition of “dredge or dredge gear” in § 648.2, i.e., the metal ring bag and the mouth frame, or bail, of the dredge are not attached, and such that no more than one complete spare dredge could be made from these component's parts.

* * * * *

5. In § 648.62, revise paragraph (a) introductory text to read as follows:

§ 648.62 Northern Gulf of Maine (NGOM) Management Program.

(a) The NGOM scallop management area is the area north of 42°20′ N lat. and within the boundaries of the Gulf of Maine Scallop Dredge Exemption Area as specified in § 648.80(h)(3)(i). To fish for or possess scallops in the NGOM scallop management area, a vessel must have been issued a scallop permit as specified in § 648.4(a)(2).

* * * * *

Subpart F—Management Measures for the NE Multispecies and Monkfish Fisheries

6. In § 648.80,

a. Revise paragraphs (a)(3)(vi);

b. Remove and reserve paragraphs (a)(11) and (18);

c. Revise paragraph (b)(2)(vi);

d. Remove and reserve paragraph (b)(11); and

e. Revise paragraphs (h).

The revisions read as follows:

§ 648.80 NE Multispecies regulated mesh areas and restrictions on gear and methods of fishing.

(a) * * *

(3) * * *

(vi) Other restrictions and exemptions. A vessel is prohibited from fishing in the GOM or GB Exemption Area as defined in paragraph (a)(17) of this section, except if fishing with exempted gear (as defined under this part) or under the exemptions specified in paragraphs (a)(5) through (a)(7), (a)(9) through (a)(16) and (a)(18) through (a)(19), (d), (e), (h), and (i) of this section; or if fishing under a NE multispecies DAS; or if fishing on a sector trip; or if fishing under the Small Vessel or Handgear A permit specified in § 648.82(b)(5) and (6), respectively; or if fishing under a Handgear B permit specified in § 648.88(a); or if fishing under the scallop state waters exemptions specified in § 648.54 and paragraph (h)(3)(i) of this section; or if fishing under a scallop DAS or general category trip in accordance with paragraph (h) of this section; or if fishing pursuant to a NE multispecies open access Charter/Party or Handgear permit specified in § 648.88; or if fishing as a charter/party or private recreational vessel in compliance with § 648.89. Any gear used by a vessel in this area must be authorized under one of these exemptions. Any gear on a vessel that is not authorized under one of these exemptions must be stowed and not available for immediate use as defined in § 648.2.

* * * * *

(b) * * *

(2) * * *

(vi) Other restrictions and exemptions. A vessel is prohibited from fishing in the SNE Exemption Area, as defined in paragraph (b)(10) of this section, except if fishing with exempted gear (as defined under this part) or under the exemptions specified in paragraphs (b)(3), (b)(5) through (9), (b)(12), (c), (e), (h), and (i) of this section; or if fishing under a NE multispecies DAS; or if fishing on a sector trip; or if fishing under the Small Vessel or Handgear A permit specified in § 648.82(b)(5) and (6), respectively; or if fishing under a Handgear B permit specified in § 648.88(a); or if fishing under a scallop state waters exemption specified in § 648.54; or if fishing under a scallop DAS or General Category scallop permit in accordance with paragraph (h) of this section; or if fishing pursuant to a NE multispecies open access Charter/Party or Handgear permit specified in § 648.88; or if fishing as a charter/party or private recreational vessel in compliance with the regulations specified in § 648.89. Any gear on a vessel, or used by a vessel, in this area must be authorized under one of these exemptions or must be stowed and not available for immediate use as defined in § 648.2.

* * * * *

(h) Scallop vessels—(1) Scallop DAS. Except as provided in paragraphs (h)(2) and (3) of this section, a scallop vessel that possesses a limited access scallop permit and either a NE multispecies Combination vessel permit or a scallop/multispecies possession limit permit, and that is fishing under a scallop DAS allocated under § 648.53, may possess and land up to 300 lb (136.1 kg) of regulated species per trip, provided that the amount of regulated species on board the vessel does not exceed the trip limits specified in § 648.86, and provided the vessel has at least one standard tote on board, unless otherwise restricted by § 648.86(a)(2).

(2) NE Multispecies DAS. Limited access scallop vessels issued a limited access NE multispecies permit and fishing under a NE multispecies DAS are subject to the gear restrictions specified in this section and may possess and land unlimited amounts of regulated species or ocean pout, unless otherwise restricted by § 648.86. Such vessels may simultaneously fish under a scallop DAS, but are prohibited from using scallop dredge gear on such trips.

(3) Scallop dredge exemption areas for general category scallop permits—(i) GOM Scallop Dredge Exemption Area. Unless otherwise prohibited in § 648.81, § 648.370, or § 648.371, vessels with a limited access scallop permit that have declared out of the DAS program as specified in § 648.10, or that have used up their DAS allocations, and vessels issued a General Category scallop permit, may fish in the GOM Regulated Mesh Area specified in paragraph (a)(1) of this section, when not under a NE multispecies DAS, providing the vessel fishes in the GOM Scallop Dredge Exemption Area and complies with the requirements specified in paragraph (h)(3)(iii) of this section. The GOM Scallop Dredge Fishery Exemption Area is bounded on the west and north by the coastlines of Massachusetts, New Hampshire, and Maine, bounded on the east by the U.S.-Canada Maritime Boundary, and bounded on the south by straight lines connecting the following points in the order stated:

GOM Scallop Dredge Exemption Area
Point | N lat. | W long.
GOM1 | 43°58′ | (¹)
GOM2 | 43°58′ | 67°22′
GOM3 | 43°41′ | 68°00′
GOM4 | 43°12′ | 69°00′
GOM5 | 42°49.5′ | 69°40′
GOM6 | 42°20′ | 69°40′
GOM7 | 42°20′ | (²)
¹ The intersection of 43°58′ N lat. and the U.S.-Canada Maritime boundary.
² The intersection of 42°20′ N lat. and the coastline of Massachusetts.

(ii) Georges Bank/Southern New England Scallop Dredge Exemption Area. Unless otherwise prohibited in § 648.81, § 648.370, or § 648.371, vessels issued a LAGC scallop permit, including limited access scallop permits that have used up their DAS allocations, may fish in the Georges Bank/Southern New England Scallop Dredge Exemption Area, as defined under paragraph (h)(3)(ii)(A) of this section, when not under a NE multispecies or scallop DAS or on a sector trip, provided the vessel complies with the requirements specified in paragraph (h)(3)(iii) of this section and applicable scallop regulations in subpart D of this part.

(A) Area definition. The Georges Bank/Southern New England dredge exemption area is bounded on the north by 42°20′ N lat.; bounded on the east by the U.S.-Canada Maritime boundary and the outer limit of the US EEZ; bounded on the west by 72°30′ W long. from the outer limit of the US EEZ to the south-facing coastline of Long Island; and bounded on the northwest by the following points, connected as noted in the order listed:

GB/SNE Scallop Dredge Exemption Area
Point | N lat. | W long. | Note
1 | The south-facing coastline of Long Island | 72°30′ W | From Point 1 to Point 2 following the coastline of Long Island.
2 | 41°00′ N | The southeast-facing coast of Long Island | From Point 2 to Point 3 following a straight line.
3 | 41°00′ N | The 3 nautical mile line, approximately 71°51.841′ W long | From Point 3 to Point 4 following the Submerged Lands Act (3 nautical mile) line.
4 | 41°4.25′ N | The 3 nautical mile line, approximately 71°47.384′ W long | From Point 4 to Point 5 following a straight line.
5 | 41°15′ N | 72°2.25′ W | Point 5 represents Race Point, Fishers Island, NY. From Point 5 to Point 6 following a straight line northeasterly through Fishers Island, NY.
6 | 41°18.2′ N | 71°51.5′ W | Point 6 represents Watch Hill, RI. From Point 6 to Point 7 following the coastlines of Rhode Island and Massachusetts.
7 | 42°20′ N | The coastline of Massachusetts |

(B) [Reserved]

(iii) Requirements. (A) A vessel fishing in the Scallop Dredge Fishery Exemption Areas specified in paragraphs (h)(3)(i) and (ii) of this section may not fish for, possess on board, or land any species of fish other than Atlantic sea scallops and up to 50 lb (23 kg) tail weight or 166 lb (75 kg) whole weight of monkfish per trip.

(B) The combined dredge width in use by, or in possession on board, vessels fishing in the Scallop Dredge Fishery Exemption Areas may not exceed 10.5 ft (3.2 m), measured at the widest point in the bail of the dredge.

(C) The exemption does not apply to the Cashes Ledge Closure Area or the Western GOM Area Closure specified in § 648.81(a)(3) and (4), respectively.

* * * * *

[FR Doc. 2019-28455 Filed 1-14-20; 8:45 a.m.]

BILLING CODE 3510-22-P